DEPARTMENT OF TRANSPORTATION

Federal Highway Administration

Notice of Final Federal Agency Actions on Proposed Transportation Project in Georgia

AGENCY: Federal Highway Administration (FHWA), Department of Transportation (DOT).

ACTION: Notice of limitation on claims for judicial review

SUMMARY: The FHWA, on behalf of the State Department of Transportation (Georgia DOT), is issuing this notice to announce actions taken by GDOT and other Federal agencies that are final agency actions. These actions relate to the proposed express lanes improvement project, the Interstate 285 (I-285) Top End project, which is located along 19.0 miles of I-285 between South Atlanta Road and Henderson Road, along 3.5 miles of State Route (SR) 400 from south of the Glenridge Connector to the vicinity of the North Springs Metropolitan Atlanta Rapid Transit Authority (MARTA) Station, and along approximately 1.0 mile of Interstate 85 (I-85) from I-285 to the vicinity of Pleasantdale Road. The length of the proposed project is approximately 23.5 miles.

DATES: By this notice, the FHWA, on behalf of GDOT, is advising the public of final agency actions subject to 23 U.S.C. 139(l)(1). A claim seeking judicial review of the Federal Agency actions on the listed highway project will be barred unless the claim is filed on or before June 22, 2026. If the Federal law that authorizes judicial review of a claim provides a time period of less than 150 days for filing such claim, then that shorter time period still applies.

ADDRESSES: The Record of Decision (ROD) and additional project documents can be viewed and downloaded from the project website at: https://i285topendexpresslanes-gdot.hub.arcgis.com/ or by contacting GDOT Office of Environmental Services, Georgia Department of Transportation, 600 West Peachtree Street, 16th Floor, Atlanta, Georgia 30308, normal business hours are 8 a.m. to 5 p.m. (Eastern Standard Time), Monday through Friday, except State holidays.

FOR FURTHER INFORMATION CONTACT: For FHWA: Ms. Sabrina S. David, Division Administrator, Georgia Division, Federal Highway Administration, 75 Ted Turner Drive, Suite 1000, Atlanta, Georgia 30303; telephone 404-562-3630; email: Sabrina.David@dot.gov. FHWA's normal business hours are 8:00 a.m. to 5:00 p.m. (eastern time) Monday through Friday. For United States Army Corps of Engineers (USACE): Mr. Edward B. Johnson, Jr., Chief, Management Branch, 4751 Best Road, Suite 140, College Park, Georgia 30337, email: Edward.B.Johnson@usace.army.mil. USACE's normal business hours are 8:00 a.m. to 5:00 p.m. (Eastern time) Monday through Friday. For Georgia Department of Transportation (GDOT): Mr. Russell McMurry, Commissioner, Georgia Department of Transportation, 600 West Peachtree Street, 22nd Floor, Atlanta, Georgia 30308; telephone (404) 631-1990; email: RMcMurray@dot.ga.gov. GDOT's normal business hours are 8:00 a.m. to 5:00 p.m. (eastern time) Monday through Friday.

SUPPLEMENTARY INFORMATION: Notice is hereby given that FHWA and USACE have taken final actions subject to 23 U.S.C. 139(l)(1) by issuing licenses, permits, and approvals for the following new highway project in the State of Georgia: The Top End I-285 project is located in Cobb, Fulton, and DeKalb Counties, Georgia. The Selected Alternative will construct express lanes in each direction along approximately 19.0 miles of I-285 between South Atlanta Road and Henderson Road, along approximately 3.5 miles of SR 400 from south of the Glenridge Connector to the vicinity of the North Springs MARTA Station, and along approximately 1.0 mile of I-85 from I-285 to the vicinity of Pleasantdale Road. The length of the proposed project is approximately 23.5 miles. Also, the project would include the modification or replacement of some overpass bridges along I-285.

The purpose of the project is to provide passenger vehicles, transit riders, and commercial vehicles with an effective transportation alternative to address the following needs:

• Unreliable trip times for commuters

• Lack of accessibility and regional connectivity

• Legislative mandate to accelerate project delivery

The actions by the Federal Agencies, and the laws under which such actions were taken, are described in the combined Final Environmental Impact Statement (FEIS) and ROD for the project, approved on October 16, 2025, and other documents in the project file. The FEIS/ROD, and other project records are available by contacting FHWA or GDOT at the addresses provided above. The FEIS/ROD can also be reviewed and downloaded from the project website at https://i285topendexpresslanes-gdot.hub.arcgis.com/.

The actions by the Federal Agencies and the laws under which such actions were taken are described in the USACE Individual Permit for the Top End 285 project, authorized on January 8, 2026. The Public Notice for the Individual Permit is available by contacting FHWA or GDOT at the addresses listed above.

This notice applies to all Federal agency final actions taken after the issuance of this notice and all laws under which such actions were taken, including but are not limited to:

1. General: National Environmental Policy Act (NEPA) [42 U.S.C. 4321-4351]; Federal-Aid Highway Act [23 U.S.C. 109 and 23 U.S.C. 128]; 23 CFR part 771.

2. Air: Clean Air Act [42 U.S.C. 7401-7671(q)].

3. Noise: Noise Control Act of 1972 [42 U.S.C. 4901-4918]; 23 CFR part 772.

4. Land: Section 4(f) of the Department of Transportation Act of 1966 [49 U.S.C. 303].

5. Wildlife: Endangered Species Act (ESA) [16 U.S.C. 1531-1544 and Section 1536]; Fish and Wildlife Coordination Act [16 U.S.C. 661-667d]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013].

7. Social and Economic: Civil Rights Act of 1964 [42 U.S.C. 2000(d)—2000(d)(1)]; American Indian Religious Freedom Act [42 U.S.C. 1996]; Farmland Protection Policy Act (FPPA) [7 U.S.C. 4201-4209].

8. Wetlands and Water Resources: Clean Water Act [33 U.S.C. 1251-1377 (Sections 404, 401, 319) and 33 CFR 208.10]; Safe Drinking Water Act [42 U.S.C. 300(f)-300(j-26)]; TEA-21 Wetlands Mitigation [23 U.S.C. 103(b)(6)(m), 133(b)(11)]; Flood Disaster Protection Act [42 U.S.C. 4001-4128]; Wild and Scenic Rivers Act [16 U.S.C. 1271-1287]; Emergency Wetlands Resources Act [16 U.S.C. 3921, 3931]; Rivers and Harbors Act of 1899 [33 U.S.C. 401-406]; Coastal Zone Management Act [16 U.S.C. 1451-1465]; Land and Water Conservation Fund (LWCF) [16 U.S.C. 4601-4604].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13045 Protection of Children From Environmental Health Risks and Safety Risks; E.O. 13112 Invasive Species.

(Catalog of Federal Domestic Assistance Program Number 20.205, Highway Planning and Construction. The regulations implementing Executive Order 12372 regarding intergovernmental consultation on Federal programs and activities apply to this program.)

(Authority: 23 U.S.C. 139(l)(1)).

Sabrina S. David,
Division Administrator, Federal Highway Administration.

[FR Doc. 2026-00977 Filed 1-16-26; 8:45 am]

BILLING CODE 4910-RY-P